DEPARTMENT OF LABOR

Mine Safety and Health Administration

Petitions for Modification

The following parties have filed petitions to modify the application of existing safety standards under section 101(c) of the Federal Mine Safety and Health Act of 1977.

1. Foggy Mountain Coal Company, Inc.

[Docket No. M-2003-056-C]

Foggy Mountain Coal Company, Inc., 13903 Elkhorn Creek Road, Shelby Gap, Kentucky 41653 has filed a petition to modify the application of 30 CFR 75.503 (Permissible electric face equipment; maintenance) and 30 CFR 18.41(f) (Plug and receptacle-type connectors) to its No. 1 Mine (MSHA I.D. No. 15-17813) located in Pike County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

2. MRI Mining, Inc.

[Docket No. M-2003-057-C]

MRI Mining, Inc., P.O. Box 308, Hi Hat, Kentucky 41636 has filed a petition to modify the application of 30 CFR 75.503 (Permissible electric face equipment; maintenance) and 30 CFR 18.41(f) (Plug and receptacle-type connectors) to its No. 1 Mine (MSHA I.D. No. 15-17228) located in Floyd County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

3. MRI Mining, Inc.

[Docket No. M-2003-058-C]

MRI Mining, Inc., P.O. Box 308, Hi Hat, Kentucky 41636 has filed a petition to modify the application of 30 CFR 75.503 (Permissible electric face equipment; maintenance) and 30 CFR 18.41(f) (Plug and receptacle-type connectors) to its No. 2 Mine (MSHA I.D. No. 15-17583) located in Floyd County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

4. RAMA Development Company, Inc.

[Docket No. M-2003-059-C]

RAMA Development Company, Inc., Route 3, Box 706, Delbarton, West Virginia 25670 has filed a petition to modify the application of 30 CFR 75.503 (Permissible electric face equipment; maintenance) and 30 CFR 18.41(f) (Plug and receptacle-type connectors) to its No. 2 Mine (MSHA I.D. No. 15-18560) located in Floyd County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

5. Star Coal Trucking, Inc.

[Docket No. M-2003-060-C]

Star Coal Trucking, Inc., P.O. Box 3881, Pikeville, Kentucky 41502 has filed a petition to modify the application of 30 CFR 75.503 (Permissible electric face equipment; maintenance) and 30 CFR 18.41(f) (Plug and receptacle-type connectors) to its No. 2 Mine (MSHA I.D. No. 15-02240) located in Floyd County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

6. Coal Services, LLC

[Docket No. M-2003-061-C]

Coal Services, LLC, P.O. Box 295, Inez, Kentucky 41224 has filed a petition to modify the application of 30 CFR 75.503 (Permissible electric face equipment; maintenance) and 30 CFR 18.41(f) (Plug and receptacle-type connectors) to its No. 1 Mine (MSHA I.D. No. 15-16643) located in Pike County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

7. Phelps Dodge Morenci Incorporated

[Docket No. M-2003-002-M]

Phelps Dodge Morenci Incorporated, 4521 N. US Hwy 191, Morenci, Arizona 85540 has filed a petition to modify the application of 30 CFR 56.6309 (Fuel oil requirements for ANFO) to its Morenci Mine (MSHA I.D. No. 02-00024) located in Greenlee County, Arizona. The petitioner proposes to use recycled waste oil to prepare ammonium nitrate-fuel oil at the Morenci Mine. The petitioner has included specific procedures in this petition that would be used for recycling waste oil. The petitioner asserts that the proposed alternative method would provide at least the same measure of protection as the existing standard.

8. Cargill Deicing Technology

[Docket No. M-2003-003-M]

Cargill Deicing Technology, P.O. Box 106, Avery Island, Louisiana 70513 has filed a petition to modify the application of 30 CFR 57.14100(b) (Safety defects; examination, correction and records) to its Avery Island Mine (MSHA I.D. No. 16-00509) located in Iberia County, Louisiana. The petitioner requests a modification of the existing standard to allow Operator Presence switches to be removed from its John Deere 970 and 1070 tractors used to transport men, tools, and equipment to and from job sites. The petitioner states that the switches are designed to automatically kill the engine when pressure is released from the seat, but using these switches will present a hazard to the equipment operator.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before October 24, 2003. Copies of these petitions are available for inspection at that address.

Dated at Arlington, Virginia, this 11th day of September, 2003.
Marvin W. Nichols, Jr.,
Director, Office of Standards, Regulations, and Variances.

[FR Doc. 03-24165 Filed 9-23-03; 8:45 am]

BILLING CODE 4510-43-P